DEPARTMENT OF LABOR

Office of the Secretary

Agency Information Collection Activities; Submission for OMB Review; Comment Request; Transmittal for Unemployment Insurance Materials

ACTION: Notice of availability; request for comments.

SUMMARY: The Department of Labor (DOL) is submitting the Employment and Training Administration (ETA) sponsored information collection request (ICR) revision titled, “Transmittal for Unemployment Insurance Materials,” to the Office of Management and Budget (OMB) for review and approval for use in accordance with the Paperwork Reduction Act (PRA) of 1995. Public comments on the ICR are invited.

DATES: The OMB will consider all written comments that agency receives on or before September 30, 2019.

ADDRESSES: A copy of this ICR with applicable supporting documentation; including a description of the likely respondents, proposed frequency of response, and estimated total burden may be obtained free of charge from the RegInfo.gov website at http://www.reginfo.gov/public/do/PRAViewICR?ref_nbr=201907-1205-003 (this link will only become active on the day following publication of this notice) or by contacting Frederick Licari by telephone at 202-693-8073, TTY 202-693-8064, (these are not toll-free numbers) or sending an email to DOL_PRA_PUBLIC@dol.gov.

Submit comments about this request by mail to the Office of Information and Regulatory Affairs, Attn: OMB Desk Officer for DOL-ETA, Office of Management and Budget, Room 10235, 725 17th Street NW, Washington, DC 20503; by Fax: 202-395-5806 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW, Washington, DC 20210; or by email: DOL_PRA_PUBLIC@dol.gov.

FOR FURTHER INFORMATION CONTACT: Frederick Licari by telephone at 202-693-8073, TTY 202-693-8064, (these are not toll-free numbers) or sending an email to DOL_PRA_PUBLIC@dol.gov.

SUPPLEMENTARY INFORMATION: This ICR seeks approval under the PRA for revisions to the Transmittal for Unemployment Insurance Materials. The Social Security Act (SSA) section 303(a)(6) requires as a condition of a State receiving an administrative grant, that State laws contains a provision for the making of such reports, in such form and containing such information, as the Secretary of Labor may from time to time require and compliance with such provisions as the Secretary of Labor may from time to time find necessary to assure the correctness and verification of such reports. Regulations 20 CFR 601.3, in part, implement this requirement by requiring submission of all relevant State materials, such as statutes, executive and administrative orders, legal opinions, rules, regulations, interpretations, court opinions, etc. In addition, the Unemployment Compensation for Federal Civilian Employees program regulations at 20 CFR 609.1(d)(1) and the Unemployment Compensation for Ex-Service Members program regulations at 20 CFR 614.1(d)(1) require submission of certain documents to ensure States properly administer these programs. Trade Adjustment Assistance (which includes Trade Readjustment Allowances) program regulations provide similar requirements at 20 CFR 617.52(c)(1). Form MA-8-7 is the mechanism for implementing these submittal requirements. Form MA-8-7 also provides the Secretary with sufficient information to determine if (a) Employers in a State qualify for tax credits under the Federal Unemployment Tax Act; (b) the State meets the requirements for obtaining administrative grants under SSA Title III; and (c) the State is fulfilling its obligations under Federal unemployment compensation programs. This information collection is a revision, because the Short Time Compensation (STC) Policies and Review of State Self-Employment Assistance (SEA) Policies were removed as ETA is only seeking information on state legislation and policies relating to work search at this time. Social Security Act of 1935 authorizes this information collection. See 42 U.S.C. 503(a)(6).

This information collection is subject to the PRA. A Federal agency generally cannot conduct or sponsor a collection of information, and the public is generally not required to respond to an information collection, unless the OMB, under the PRA, approves it and displays a currently valid OMB Control Number. In addition, notwithstanding any other provisions of law, no person shall generally be subject to penalty for failing to comply with a collection of information that does not display a valid Control Number. See 5 CFR 1320.5(a) and 1320.6. The DOL obtains OMB approval for this information collection under Control Number 1205-0222. The current approval is scheduled to expire on August 31, 2019; however, the DOL notes that existing information collection requirements submitted to the OMB will receive a month-to-month extension while they undergo review. New requirements would only take effect upon OMB approval. For additional substantive information about this ICR, see the related notice published in the Federal Register on December 28, 2018 (83 FR 67354).

Interested parties are encouraged to send comments to the OMB, Office of Information and Regulatory Affairs at the address shown in the ADDRESSES section within thirty-(30) days of publication of this notice in the Federal Register. In order to help ensure appropriate consideration, comments should mention OMB Control Number 1205-0222. The OMB is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected; and

• Minimize the burden of the collection of information on those who are to respond, including through the use of appropriate automated, electronic, mechanical, or other technological collection techniques or other forms of information technology, e.g., permitting electronic submission of responses.

Agency: DOL-ETA.

Title of Collection: Transmittal for Unemployment Insurance Materials.

OMB Control Number: 1205-0222.

Affected Public: State, Local, and Tribal Governments.

Total Estimated Number of Respondents: 53.

Total Estimated Number of Responses: 318.

Total Estimated Annual Time Burden: 80 hours.

Total Estimated Annual Other Costs Burden: $0.

Authority: 44 U.S.C. 3507(a)(1)(D).

Dated: August 23, 2019.
Frederick Licari,
Departmental Clearance Officer.

[FR Doc. 2019-18757 Filed 8-29-19; 8:45 am]

BILLING CODE 4510-FW-P